DEPARTMENT OF HOMELAND SECURITY

Coast Guard

33 CFR Part 117

[CGD11-06-043]

RIN 1625-AA09

Drawbridge Operation Regulations; Little Potato Slough, Terminous, CA

AGENCY: Coast Guard, DHS.

ACTION: Notice of temporary deviation from regulations.

SUMMARY: The Commander, Eleventh Coast Guard District, has issued a temporary deviation from the regulation governing the operation of the Highway 12 Drawbridge across Little Potato Slough, mile 0.1, at Terminous, CA. This deviation allows the bridge to remain in the closed-to-navigation position during the deviation period. The deviation is necessary for the bridge owner, the California Department of Transportation (Caltrans), to perform submarine power and control cable testing.

DATES: This deviation is effective from 10 a.m. to 4 p.m. on November 28, 2006.

ADDRESSES: Materials referred to in this document are available for inspection or copying at Commander (dpw), Eleventh Coast Guard District, Building 50-2, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: On October 25, 2006, Caltrans requested a temporary change to the operation of the Highway 12 Drawbridge, mile 0.1, Little Potato Slough, at Terminous, CA. The Highway 12 Drawbridge navigation span provides a vertical clearance of 34 feet above Mean High Water in the closed-to-navigation position. The draw opens on signal if at least 4 hours notice is given as required by 33 CFR 117.167. Navigation on the waterway is mainly recreational with some commercial traffic hauling materials for levee repair. Caltrans requested the drawbridge be allowed to remain closed to navigation from 10 a.m. to 4 p.m. on November 28, 2006. During this time, submarine power and control cable testing will be conducted to ensure the continuing operation of the drawspan. This temporary deviation has been coordinated with waterway users. No objections to the proposed temporary rule were raised. Vessels that can transit the bridge while in the closed-to-navigation position may continue to do so at any time. Vessels unable to transit the bridge in the closed-to-navigation position can take alternate routes to reach either side of the closed bridge.

In accordance with 33 CFR 117.35(c), this work will be performed with all due speed in order to return the bridge to normal operation as soon as possible. This deviation from the operating regulations is authorized under 33 CFR 117.35.

Dated: November 8, 2006.
R.C. Lorigan,
Captain, U.S. Coast Guard, Acting Commander, Eleventh Coast Guard District.

[FR Doc. E6-19675 Filed 11-20-06; 8:45 am]

BILLING CODE 4910-15-P